CONSUMER PRODUCT SAFETY COMMISSION

Sunshine Act Meeting Notice

Time and Place: Thursday, March 23 2017, 1:00 p.m.-3:00 p.m.

Place: Hearing Room 420, Bethesda Towers, 4330 East West Highway, Bethesda, Maryland.

Status: Commission Meeting—Open to the Public.

Matter to be Considered:

Briefing Matter: Safety Standard Addressing Blade-Contact Injuries on Table Saws—Notice of Proposed Rulemaking

A live webcast of the Meeting can be viewed at www.cpsc.gov/live.

Contact Person for More Information: Todd A. Stevenson, Office of the Secretary, U.S. Consumer Product Safety Commission, 4330 East West Highway, Bethesda, MD 20814, (301) 504-7923.

Dated: March 15, 2017.
Todd A. Stevenson,
Secretary.

[FR Doc. 2017-05495 Filed 3-16-17; 11:15 am]

BILLING CODE 6355-01-P